DEPARTMENT OF DEFENSE

Office of the Secretary

32 CFR Part 260

[DoD Directive 1125.3]

Vending Facility Program for the Blind on Federal Property

AGENCY: Department of Defense.

ACTION: Final rule.

SUMMARY: This document removes information in Title 32 of the Code of Federal Regulations concerning Vending Facility Program for the Blind on Federal Property. This part has served the purpose for which it was intended in the CFR and is no longer necessary.

DATES: Effective Date: July 14, 2004.

FOR FURTHER INFORMATION CONTACT: Mr. G. McNamara (703) 602-4601.

SUPPLEMENTARY INFORMATION: The corresponding Department of Defense document, DoD Directive 1125.3 is available at http://www.dtic.mil/whs/directives/corres/pdf/d11253wchl_040778/d11253p.pdf.

List of Subjects in 32 CFR Part 260

Blind, Concessions, Federal buildings and facilities.

PART 260—[REMOVED]

Accordingly, by the authority of 10 U.S.C. 301, 32 CFR part 260 is removed.

Dated: July 7, 2004.
L.M. Bynum,
Alternate OSD Federal Register Liaison Officer, Department of Defense.

[FR Doc. 04-15861 Filed 7-13-04; 8:45 am]

BILLING CODE 5001-06-M